DEPARTMENT OF ENERGY

Federal Energy Regulatory Commission

Combined Notice of Filings #2

Take notice that the Commission received the following electric rate filings:

Docket Numbers: ER14-661-000

Applicants: SG2 Imperial Valley LLC

Description: SG2 Imperial Valley LLC submits Application for Initial Market-Based Rate Tariff and Granting Certain Waivers to be effective 2/1/2014.

Filed Date: 12/18/13.

Accession Number: 20131218-5042.

Comments Due: 5 p.m. ET 1/8/14.

Docket Numbers: ER14-662-000.

Applicants: Southwest Power Pool, Inc.

Description: Southwest Power Pool, Inc. submits 2568 Abengoa Bioenergy Biomass of Kansas ASFCA to be effective 12/3/2013.

Filed Date: 12/18/13.

Accession Number: 20131218-5055.

Comments Due: 5 p.m. ET 1/8/14.

Docket Numbers: ER14-663-000.

Applicants: Energy Discounters, LLC.

Description: Energy Discounters, LLC submits Baseline new to be effective 12/18/2013.

Filed Date: 12/18/13.

Accession Number: 20131218-5071

Comments Due: 5 p.m. ET 1/8/14.

Docket Numbers: ER14-664-000.

Applicants: BIV Generation Company, L.L.C.

Description: BIV Generation Company, L.L.C. submits Second Revised MBR Tariff to be effective 12/19/2013.

Filed Date: 12/18/13.

Accession Number: 20131218-5073.

Comments Due: 5 p.m. ET 1/8/14.

Docket Numbers: ER14-665-000.

Applicants: Colorado Power Partners.

Description: Colorado Power Partners submits Second Revised MBR Tariff to be effective 12/19/2013.

Filed Date: 12/18/13.

Accession Number: 20131218-5074.

Comments Due: 5 p.m. ET 1/8/14.

Docket Numbers: ER14-666-000.

Applicants: Rocky Mountain Power, LLC.

Description: Rocky Mountain Power, LLC submits Second Revised MBR to be effective 12/19/2013.

Filed Date: 12/18/13.

Accession Number: 20131218-5076.

Comments Due: 5 p.m. ET 1/8/14.

Docket Numbers: ER14-667-000.

Applicants: Erie Wind, LLC.

Description: Erie Wind, LLC submits Revised Market-Based Rate Tariff Filing in Compliance with Order No. 784 to be effective 12/19/2013.

Filed Date: 12/18/13.

Accession Number: 20131218-5083.

Comments Due: 5 p.m. ET 1/8/14.

Docket Numbers: ER14-668-000.

Applicants: Longfellow Wind, LLC.

Description: Longfellow Wind, LLC submits Revised Market-Based Rate Tariff Filing in Compliance with Order No. 784 to be effective 12/19/2013.

Filed Date: 12/18/13.

Accession Number: 20131218-5084.

Comments Due: 5 p.m. ET 1/8/14.

Docket Numbers: ER14-669-000

Applicants: Milford Wind Corridor Phase II, LLC

Description: Milford Wind Corridor Phase II, LLC submits Revised Market-Based Rate Tariff Filing in Compliance with Order No. 784 to be effective 12/19/2013.

Filed Date: 12/18/13.

Accession Number: 20131218-5085.

Comments Due: 5 p.m. ET 1/8/14.

Docket Numbers: ER14-670-000.

Applicants: Stetson Holdings, LLC.

Description: Stetson Holdings, LLC submits Revised Market-Based Rate Tariff Filing in Compliance with Order No. 784 to be effective 12/19/2013.

Filed Date: 12/18/13.

Accession Number: 20131218-5088.

Comments Due: 5 p.m. ET 1/8/14.

Docket Numbers: ER14-671-000.

Applicants: Entergy Arkansas, Inc..

Description: Entergy Arkansas, Inc. submits Unexecuted Pseudo-Tie Coordination Agreement—EAI-Ameren to be effective 12/19/2013.

Filed Date: 12/18/13.

Accession Number: 20131218-5089.

Comments Due: 5 p.m. ET 1/8/14.

Docket Numbers: ER14-672-000.

Applicants: Entergy Arkansas, Inc.

Description: Entergy Arkansas, Inc. submits EAI-SMEPA Unexecuted Pseudo-Tie Coordination Agreement—12-18-2013 to be effective 12/19/2013.

Filed Date: 12/18/13.

Accession Number: 20131218-5090.

Comments Due: 5 p.m. ET 1/8/14.

Docket Numbers: ER14-673-000.

Applicants: Entergy Arkansas, Inc.

Description: Entergy Arkansas, Inc. submits EES-LaGen Unexecuted Pseudo-Tie Coordination Agreement—12-18-2013 to be effective 12/19/2013.

Filed Date: 12/18/13.

Accession Number: 20131218-5093.

Comments Due: 5 p.m. ET 1/8/14.

Docket Numbers: ER14-674-000.

Applicants: Entergy Arkansas, Inc.

Description: Entergy Arkansas, Inc. submits EES-Cleco Unexecuted Pseudo-Tie Coordination Agreement—12-18-2013 to be effective 12/19/2013.

Filed Date: 12/18/13.

Accession Number: 20131218-5094.

Comments Due: 5 p.m. ET 1/8/14.

Docket Numbers: ER14-675-000.

Applicants: Entergy Arkansas, Inc.

Description: Entergy Arkansas, Inc. submits EES-LEPA Unexecuted Pseudo-Tie Coordination Agreement—12-18-2013 to be effective 12/19/2013.

Filed Date: 12/18/13.

Accession Number: 20131218-5095.

Comments Due: 5 p.m. ET 1/8/14.

Docket Numbers: ER14-676-000.

Applicants: Entergy Arkansas, Inc.

Description: Entergy Arkansas, Inc. submits EES-SMEPA Unexecuted Pseudo-Tie Coordination Agreement—12-18-2013 to be effective 12/19/2013.

Filed Date: 12/18/13.

Accession Number: 20131218-5096.

Comments Due: 5 p.m. ET 1/8/14.

Docket Numbers: ER14-677-000.

Applicants: Milford Wind Corridor Phase I, LLC.

Description: Milford Wind Corridor Phase I, LLC submits Revised Market-Based Rate Tariff Filing in Compliance with Order No. 784 to be effective 12/19/2013.

Filed Date: 12/18/13.

Accession Number: 20131218-5097.

Comments Due: 5 p.m. ET 1/8/14.

Docket Numbers: ER14-678-000.

Applicants: Niagara Wind Power, LLC.

Description: Niagara Wind Power, LLC submits Revised Market-Based Rate Tariff Filing in Compliance with Order No. 784 to be effective 12/19/2013.

Filed Date: 12/18/13.

Accession Number: 20131218-5101.

Comments Due: 5 p.m. ET 1/8/14.

Docket Numbers: ER14-679-000.

Applicants: Palouse Wind, LLC.

Description: Palouse Wind, LLC submits Revised Market-Based Rate Tariff Filing in Compliance with Order No. 784 to be effective 12/19/2013.

Filed Date: 12/18/13.

Accession Number: 20131218-5104.

Comments Due: 5 p.m. ET 1/8/14.

Docket Numbers: ER14-680-000.

Applicants: Stetson Wind II, LLC.

Description: Stetson Wind II, LLC submits Revised Market-Based Rate Tariff Filing in Compliance with Order No. 784 to be effective 12/19/2013.

Filed Date: 12/18/13.

Accession Number: 20131218-5107.

Comments Due: 5 p.m. ET 1/8/14.

Docket Numbers: ER14-681-000.

Applicants: Midcontinent Independent System Operator, Inc.

Description: Midcontinent Independent System Operator, Inc. submits 12-18-2013 Attachment FF-1 Southern Region to be effective 12/19/2013.

Filed Date: 12/18/13.

Accession Number: 20131218-5108.

Comments Due: 5 p.m. ET 1/8/14.

Docket Numbers: ER14-682-000.

Applicants: Vermont Wind, LLC.

Description: Vermont Wind, LLC submits Revised Market-Based Rate Tariff Filing in Compliance with Order No. 784 to be effective 12/19/2013.

Filed Date: 12/18/13.

Accession Number: 20131218-5110.

Comments Due: 5 p.m. ET 1/8/14.

Docket Numbers: ER14-683-000.

Applicants: San Diego Gas & Electric Company.

Description: San Diego Gas & Electric Company submits 2014 SDGE RS Update to Transmission Owner Tariff to be effective 1/1/2014.

Filed Date: 12/18/13.

Accession Number: 20131218-5120.

Comments Due: 5 p.m. ET 1/8/14.

Docket Numbers: ER14-684-000.

Applicants: Midcontinent Independent System Operator, Inc.

Description: Midcontinent Independent System Operator, Inc. submits 12-18-2013 SA 2555 AECC NITSA NOA to be effective 12/19/2013.

Filed Date: 12/18/13.

Accession Number: 20131218-5134.

Comments Due: 5 p.m. ET 1/8/14.

Docket Numbers: ER14-685-000.

Applicants: Evergreen Wind Power III, LLC.

Description: Evergreen Wind Power III, LLC submits Revised Market-Based Rate Tariff Filing in Compliance with Order No. 784 to be effective 12/19/2013.

Filed Date: 12/18/13.

Accession Number: 20131218-5136.

Comments Due: 5 p.m. ET 1/8/14.

Docket Numbers: ER14-686-000.

Applicants: Evergreen Wind Power, LLC.

Description: Evergreen Wind Power, LLC submits Revised Market-Based Rate Tariff Filing in Compliance with Order No. 784 to be effective 12/19/2013.

Filed Date: 12/18/13.

Accession Number: 20131218-5142.

Comments Due: 5 p.m. ET 1/8/14.

Docket Numbers: ER14-687-000.

Applicants: First Wind Energy Marketing, LLC.

Description: First Wind Energy Marketing, LLC submits Revised Market-Based Rate Tariff Filing in Compliance with Order No. 784 to be effective 12/19/2013.

Filed Date: 12/18/13.

Accession Number: 20131218-5146.

Comments Due: 5 p.m. ET 1/8/14.

Docket Numbers: ER14-688-000.

Applicants: Canandaigua Power Partners II, LLC.

Description: Canandaigua Power Partners II, LLC submits Revised Market-Based Rate Tariff Filing in Compliance with Order No. 784 to be effective 12/19/2013.

Filed Date: 12/18/13.

Accession Number: 20131218-5148.

Comments Due: 5 p.m. ET 1/8/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2013.
Nathaniel J. Davis, Sr.,
Deputy Secretary.

[FR Doc. 2013-31097 Filed 12-27-13; 8:45 am]

BILLING CODE 6717-01-P